NATIONAL SCIENCE FOUNDATION

Agency Information Collection Activities: Proposed Collection, Comment Request

AGENCY: National Science Foundation.

ACTION: Notice.

SUMMARY: The National Science Foundation (NSF) is announcing plans to request clearance for this collection. In accordance with the requirement of Section 3506(c)(2)(A) of the Paperwork Reduction Act of 1995, we are providing opportunity for public comment on this action. After obtaining and considering public comment, NSF will prepare the submission requesting OMB clearance of this collection for no longer than 3 years.

Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information of respondents, including through the use of automated collection techniques or other forms of information technology.

DATES: Written comments should be received by October 24, 2005, to be assured of consideration. Comments received after that date will be considered to the extent practicable.

ADDRESSES: Written comments regarding the information collection and requests for copies of the proposed information collection request should be addressed to Suzanne Plimpton, Reports Clearance Officer, National Science Foundation, 4201 Wilson Boulevard, Room 295, Arlington, VA 22230, or by e-mail to splimpton@nsf.gov.

FOR FURTHER INFORMATION CONTACT: Suzanne Plimpton on (703) 292-7556 or send e-mail to splimpton@nsf.gov. Individuals who use a telecommunications device for the deaf (TDD) may call the Federal Information Relay Service (FIRS) at 1-800-877-8339 between 8 a.m. and 8 p.m., Eastern time, Monday through Friday.

SUPPLEMENTARY INFORMATION:

Title of Collection: Evaluation of the National Science Foundation's Math and Science Partnership (MSP) Program.

OMB Control No.: 3145-New.

Expiration Date of Approval: Not applicable.

Abstract: The National Science Foundation (NSF) requests a three-year clearance for an evaluation of the Math and Science Partnership (MSP) program. After three years in existence, MSP as a program in its entirety has not been evaluated regarding whether it is achieving its goals or purposes. The MSP program is a research and development (R&D) effort funded by the NSF to integrate the work of higher education, especially disciplinary faculty in math, sciences, and engineering, with that of K-12 communities in order to strengthen and reform math and science education. The program is authorized under the NSF Authorization Act of 2002 (P.L. 107-368), December 19, 2002 (to authorize appropriations for FY 2003-07 and “for other purposes”). MSP is among 11 programs specifically authorized by the legislation (Sec. 11 authorizes a 12th program, the Centers for Research on Mathematics and Science Learning and Education Improvement).

The NSF's MSP program portfolio consists of about 80 awards or projects (e.g. design grants, standard or continuing grants or cooperative agreements) that initially were funded between 2002 and 2004. The type of awards subject to study and data collection, however, include only the comprehensive MSPs, targeted MSPs, teacher institute partnerships, and Research, Evaluation, and Technical Assistance (RETAs), or a universe of approximately 65 discrete projects.

The evaluation's data collection and analysis activities will be conducted by COSMOS Corporation, Bethesda in partnership with Brown University, George Mason University, and The McKenzie Group via a contract administered by the NSF's Division of Research, Evaluation and Communication (REC). This evaluation involves both quantitative and qualitative data, collected from multiple sources using multiple methods, including secondary analyses of project-related materials such as existing databases (MSP Management Information System—OMB 3145-0199), annual reports, Web sites, and relevant policy and methodological documents and original data collection through one-on-one interviews with key stakeholders conducted during site visits. For the MSP Management Information System, the contract team will analyze these data using quantitative statistical models. A second data source consists of annual project reports and other reports submitted by the MSP grantees to the NSF in accordance with Federal research project reporting requirements established at NSF under OMB 3145-0058. A third source is U.S. Department of Education's public use files on student achievement and school systems' demographic characteristics.

The fourth source for data is the proposed evaluation's original data collection activities. In particular and principally a series of site visits will be conducted during 2006, 2007, and 2008. The evaluation plan selects a random sample of sites to be the subject of the 2006 and 2007 site visits. In this manner, data and lessons derived form the earlier site visits can be the basis for generalizing to the entire MSP Program portfolio during 2006 and 2007. By 2008, with the entire census of study projects covered, such a sampling logic will no longer be relevant. The initial random sample will be stratified so that every grant site visit occurs before the grant expires.

The evaluation's overall framework consists of several substudies each focusing on a different, but essential part of the MSP grantee's work (e.g., partnerships, the role of disciplinary faculty, student achievement). The relevant evaluation design under these conditions might be considered a meta-analytic rather than singular design—e.g., providing a rationale for the selection of substudies as well as some guidance for conducting the substudies. Consultations have occurred with a team of external experts on the research design during the evaluation's design phase and will continue to take place throughout the evaluation. The team of external experts represents the nation's leading researchers and scholars on methodology and content in the field of evaluation and representatives are from top-tier university schools of education and departments of mathematics or science; an education advocacy group; and an education research council.

The data collection instruments include face-to-face interviews, such as focus groups, and telephone or electronic surveys. An interview protocol based on the evaluation framework will be administered during the site visits. Expected respondents at site visits are Principal Investigators, co-Principal Investigators, administrators, teams of external experts, and other stakeholders who participated in MSP. There are not costs to respondents other than the time involved in the interview or survey process.

Information from the evaluation's data collections and analysis will be used to improve the NSF's program processes and outcomes. It will enable NSF to prepare and publish reports, and to respond to requests from Committees of Visitors, Congress, and the Office of Management and Budget, particularly as related to the Government Performance and Results Act (GPRA) and the Program Effectiveness Rating Tool (PART).

The primary evaluation questions include but are not limited to:

(1) How has the MSP Program affected or influenced the expertise, numbers, and diversity of the mathematics and science teaching force, K-12 student achievement in mathematics and science, and other presumed program outcomes? (2) What factors or attributes have accelerated or constrained progress in the MSP Program's achievements? and (3) How have institutions of higher education (IHEs) disciplinary faculty (mathematics, science, and engineering) participated in the MSP Program, and what has been their role in the Program's achievements?

Respondents: Individuals and not-for-profit institutions.

Estimated Number of Annual Respondents: 1,200.

Burden on the Public: 3,000 hours.

Dated: August 19, 2005.
Suzanne H. Plimpton,
Reports Clearance Officer, National Science Foundation.

[FR Doc. 05-16825 Filed 8-23-05; 8:45 am]

BILLING CODE 7555-01-M